FEDERAL COMMUNICATIONS COMMISSION

47 CFR Part 73

[DA 03-1225; MB Docket No. MB 03-105; RM-10671]

Radio Broadcasting Services; Glens Falls, Indian Lake, Malta & Queensbury, NY

AGENCY: Federal Communications Commission.

ACTION: Proposed rule.

SUMMARY: This document requests comments on a petition for rule making filed jointly by Vox New York, LLC, licensee of Station WNYQ, Channel 289B1, Queensbury, NY, and Entertronics, Inc., licensee of Station WCQL, Channel 240A, Glens Falls, NY (“Petitioners”). Petitioners request the substitution of Channel 289A for Channel 289B1 at Queensbury, reallotment of the channel to Malta, NY, and modification of the license for Station WNYQ accordingly; reallotment of Channel 204A from Glens Falls, NY to Queensbury, NY and modification of the license for Station WNYQ to specify operation on Channel 240A at Queensbury; and, allotment of Channel 290A at Indian Lake, NY, as a first local service. The coordinates for Channel 289A at Malta are 42-58-58 and 73-48-00. The coordinates for Channel 240A at Queensbury are 43-24-12 and 73-40-25. The coordinates for Channel 290A at Indian Lake are 43-46-57 and 74-16-20. The proposal complies with the provisions of Section 1.420(i) of the Commission's Rules, and therefore, the Commission will not accept competing expressions of interest in the use of Channels 289A at Malta and Channel 240A at Queensbury.

DATES: Comments must be filed on or before June 23, 2003, and reply comments on or before July 8, 2003.

ADDRESSES: Secretary, Federal Communications Commission, 445 12th Street, SW., Room TW-A325, Washington, DC 20554. In addition to filing comments with the FCC, Interested parties should serve the petitioners' counsel, as follows: David G. O'Neil, Manatt, Phelps and Phillips, LLP, 1501 M Street, NW., Suite 700, Washington, DC 20005 (Vox New York, LLC) and Joseph E. Dunne, Law offices of Joseph E. Dunne III, P.O. Box 9203, Durango, Colorado 81301 (Entertronics, Inc.).

FOR FURTHER INFORMATION CONTACT: Kathleen Scheuerle, Media Bureau, (202) 418-2180.

SUPPLEMENTARY INFORMATION: This is a synopsis of the Commission's Notice of Proposed Rule Making, MB Docket No. 03-105, adopted April 28, 2003, and released April 30, 2003. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under New York, is amended by removing Channel 289B1 and adding Channel 240A at Queensbury, by removing Channel 240A and Glens Falls, by adding Channel 289A, Malta and by adding Indian Lake, Channel 290A.

Federal Communications Commission.
John A. Karousos,
Assistant Chief, Audio Division, Media Bureau.

[FR Doc. 03-12919 Filed 5-22-03; 8:45 am]

BILLING CODE 6712-01-M